DEPARTMENT OF AGRICULTURE

Forest Service

Privacy Act of 1974; Abolish Obsolete Systems of Records

AGENCY: Forest Service, USDA.

ACTION: Notice of abolishment of records systems.

SUMMARY: A review of several Privacy Act Systems of Records has concluded that those systems are no longer in effect or are obsolete. Those systems are being abolished from the Forest Service Systems of Records in accordance with the Privacy Act of 1974 (5 U.S.C. 552a), as amended.

DATES: This notice is effective on November 1, 2004.

ADDRESSES: For additional information contact Rita Morgan, Freedom of Information and Privacy Act Officer, SW., Mail Stop 1143, 1400 Independence Avenue, Washington, DC 20250-1143.

FOR FURTHER INFORMATION CONTACT: Rita Morgan, Freedom of Information and Privacy Act Officer, Telephone: (703) 605-4913.

SUPPLEMENTARY INFORMATION: The Privacy Act of 1974 (5 U.S.C. 552a), as amended, requires that each agency publish a notice of the existence and character of each new or altered “system of records.” 5 U.S.C. 552a(a)(5). This notice identifies and abolishes the Forest Service's discontinued and obsolete systems of records. The Forest Service is abolishing the following 10 sytems of records which, upon review, are no longer used or are not properly Privacy Act records, and are, therefore, obsolete: USDA/FS-01—Appeals and Administrative Reviews; USDA/FS-17—Mineral Operations; USDA/FS-18—Mineral Claimants; USDA/FS-20—Public Correspondence Concerning Timber Management; USDA/FS-21—Public Involvement Respondents on Forest Service Activities; USDA/FS-23 FILL IN NAME; USDA/FS-32—Professional Registration and Professional Society Affiliation, Engineering-Related Personnel-Eastern Region; USDA/FS-48—YCC Long-Term Benefit Evaluation; USDA/FS-49—International Skills Roster of Forestry and Natural Resources Expertise; USDA/FS-50—Skills Bank Data Base.

Dated: October 20, 2004.
Irving W. Thomas,
Associate Deputy Chief, OPS.

[FR Doc. 04-24298 Filed 10-29-04; 8:45 am]

BILLING CODE 3410-11-P